DEPARTMENT OF THE INTERIOR

National Park Service

Winter Use Plans, Final Environmental Impact Statement, Yellowstone and Grand Teton National Parks and the John D. Rockefeller, Jr. Memorial Parkway, Wyoming

AGENCY: National Park Service, Department of the Interior.

ACTION: Notice of Availability of a Record of Decision on the Final Environmental Impact Statement for the Winter Use Plans, Yellowstone and Grand Teton National Parks and the John D. Rockefeller, Jr. Memorial Parkway.

SUMMARY: Pursuant to § 102(2)(C) of the National Environmental Policy Act of 1969, 83 Stat. 852, 853, codified as amended at 42 U.S.C. 4332(2)(C), the National Park Service announces the availability of the Record of Decision for the Winter Use Plans, Yellowstone and Grand Teton National Parks and the John D. Rockefeller, Jr. Memorial Parkway, Wyoming. On November 20, 2007, the Director, Intermountain Region, approved the Record of Decision for the project.

Beginning in the winter of 2007-2008, the National Park Service (NPS) will begin to implement this Decision, although certain provisions will not apply until implementing regulations are promulgated, as described in the Revised Preferred Alternative (Alternative 7) contained in the FEIS issued on October 5, 2007. The following course of action will occur under Alternative 7 as modified in the ROD: 540 Best Available Technology (BAT) snowmobiles and 83 snowcoaches will be allowed per day in Yellowstone. All snowmobiles and snowcoaches will be 100% commercially guided. For the winter season of 2007-2008 Sylvan Pass will be managed continuing the combined program outlined in the 2004 Temporary Plan. After the winter of 2007-2008, in order to maximize risk reduction, the pass would be open and managed using full avalanche forecasting (as defined in the Sylvan Pass Operational Risk Management Assessment). When full forecasting indicates the pass is safe, the pass will be open to oversnow travel (both motorized and non-motorized access).

The NPS will, in good faith, work cooperatively with the State of Wyoming, Park County, Wyoming, and the City of Cody to determine how to provide continued snowmobile and snowcoach motorized oversnow access to Yellowstone National Park through the East Gate via Sylvan Pass in the winter use seasons beyond 2007-2008.

Beginning with the 2011-2012 season, all snowcoaches operating in the parks will be required to meet BAT emission and sound level requirements.

In Grand Teton and the Parkway, grooming and motorized oversnow travel on the Continental Divide Snowmobile Trail (CDST) between Moran Junction and Flagg Ranch will be discontinued. However, those interested in through travel on the CDST may transport their snowmobiles on trailers between these locations.

Twenty-five snowmobiles a day will be allowed to travel on the Grassy Lake Road with no BAT or guiding requirement. Forty unguided BAT snowmobiles a day will be allowed on Jackson Lake to facilitate ice fishing by those possessing appropriate fishing gear and a valid State of Wyoming fishing license.

This course of action and seven alternatives were analyzed in the Draft and Final Environmental Impact Statements. The full range of foreseeable environmental consequences was assessed, and appropriate mitigating measures were identified.

The Record of Decision includes a statement of the decision made, synopses of other alternatives considered, the basis for the decision, a description of the environmentally preferred alternative, a finding on impairment of park resources and values, a listing of measures to minimize environmental harm, and an overview of public involvement in the decision-making process.

FOR FURTHER INFORMATION CONTACT: John Sacklin, P.O. Box 168, Yellowstone National Park, WY 82190, (307) 344-2019, yell_winter_use@nps.gov.

SUPPLEMENTARY INFORMATION: Copies of the Record of Decision may be obtained from the contact listed above or online at http://parkplanning.nps.gov.

Dated: November 20, 2007.
Michael D. Snyder,
Regional Director, Intermountain Region, National Park Service.

[FR Doc. E7-24165 Filed 12-12-07; 8:45 am]

BILLING CODE 4312-CT-P